DEPARTMENT OF HEALTH AND HUMAN SERVICES

National Institutes of Health

Center for Scientific Review; Amended Notice of Meeting

Notice is hereby given of a change in the meeting of the Center for Scientific Review Special Emphasis Panel, April 7, 2002, 4 PM to April 9, 2002, 10 AM, Argonne Guest House, Argonne National Laboratory, 9700 South Cass Avenue—Bldg 460, Argonne, IL, 60439 which was published in the Federal Register on March 27, 2002, 67 FR 14724-14725.

The starting time of the meeting on April 7, 2002 has been changed to 7 PM. The meeting dates and location remain the same. The meeting is closed to the public.

Dated: April 4, 2002.
LaVerne Y. Stringfield,
Director, Office of Federal Advisory Committee Policy.

[FR Doc. 02-8734 Filed 4-10-02; 8:45 am]

BILLING CODE 4410-01-M